ENVIRONMENTAL PROTECTION AGENCY

[OPP-2002-0312; FRL-7280-7]

Diazinon; End-Use Products Cancellation Order

AGENCY: Environmental Protection Agency (EPA).

ACTION: Notice.

SUMMARY: This notice announces EPA's cancellation order for the product and use cancellations as requested by companies (hereafter collectively referred to as the “EUP Registrants”) that hold the registrations of pesticide End-Use Products (EUPs) containing the active ingredient diazinon and accepted by EPA, pursuant to section 6(f) of the Federal Insecticide, Fungicide, and Rodenticide Act (FIFRA). This order follows up an September 11, 2002, notice of receipt from the EUP Registrants, of requests for cancellations and or amendments of their diazinon product registrations to terminate all indoor uses, certain agricultural uses and certain outdoor non-agricultural uses. In the September 11, 2002 notice, EPA indicated that it would issue an order granting the voluntary product and use registration cancellations unless the Agency received any substantive comment within the comment period that would merit its further review of these requests. The Agency did not receive any comments specific to these cancellations. Accordingly, EPA hereby issues in this notice a cancellation order granting the requested cancellations. Any distribution, sale, or use of the products subject to this cancellation order is only permitted in accordance with the terms of the existing stocks provisions of this cancellation order.

DATES: The cancellations are effective December 9, 2002.

FOR FURTHER INFORMATION CONTACT: Laura Parsons, Special Review and Reregistration Division (7508C), Office of Pesticide Programs, Environmental Protection Agency, 1200 Pennsylvania Ave., NW., Washington, DC 20460-0001, telephone number: (703) 305-5776; fax number: (703) 308-7042; e-mail address: parsons.laura@epa.gov.

SUPPLEMENTARY INFORMATION:

I. General Information

A. Does this Action Apply to Me?

This action is directed to the public in general. You may be potentially affected by this action if you manufacture, sell, distribute, or use diazinon products. The Congressional Review Act, 5 U.S.C. 801 et seq., as added by the Small Business Regulatory Enforcement Fairness Act of 1996, does not apply because this action is not a rule, for purposes of 5 U.S.C. 804(3). Since other entities may also be interested, the Agency has not attempted to describe all the specific entities that may be affected by this action. If you have any questions regarding the applicability of this action to a particular entity, consult the person listed under FOR FURTHER INFORMATION CONTACT.

B. How Can I Get Copies of This Document and Other Related Information?

1. Docket. EPA has established an official public docket for this action under docket identification (ID) number OPP-2002-0312. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. Receipt of Requests to Cancel and Amend Registrations to Delete Uses.

A. Background

Certain registrants requested in letters dated December 2001, and January, February, March, April, May, June, and July 2002 that their diazinon registrations be amended to delete all indoor uses, certain agricultural uses, and any other uses that the registrants do not wish to maintain. The requests also included deletions of outdoor non-agricultural uses from the labeling of certain end-use products so that such products would be labeled for agricultural uses only. Similarly, other diazinon end-use registrants requested voluntary cancellation of their diazinon EUP registrations with indoor use and/or certain outdoor non-agricultural uses, and any other uses that the registrants do not wish to maintain. EPA announced its receipt of these above-mentioned cancellation requests in a Federal Register notice dated September 11, 2002 (67 FR 57589), (FRL-7197-8).

These requested cancellations and amendments are consistent with the requests in December 2000 by the manufacturers of diazinon technical products, and EPA's approval of such requests, to terminate all indoor uses and certain agricultural uses from their diazinon product registrations because of EPA's concern with the potential exposure risk, especially to children, associated with diazinon containing products. The indoor uses and agricultural uses subject to cancellation are identified in List 1 below:

List 1 — Uses Requested for Termination

1. Indoor uses: Pet collars, or inside any structure or vehicle, vessel, or aircraft or any enclosed area, and/or on any contents therein (except mushroom houses), including food/feed handling establishments, greenhouses, schools, residences, commercial buildings, museums, sports facilities, stores, warehouses and hospitals.

2. Agricultural uses: Alfalfa, bananas, Bermuda grass, dried beans, dried peas, celery, red chicory (radicchio), citrus, clover, coffee, cotton, cowpeas, cucumbers, dandelions, forestry (ground squirrel/rodent burrow dust stations for public health use), kiwi, lespedeza, parsley, parsnips, pastures, peppers, potatoes (Irish and sweet), sheep, sorghum, squash (winter and summer), rangeland, Swiss chard, tobacco, and turnips (roots and tops).

In today's Cancellation Order, EPA is approving the registrants' requested cancellations and amendments of the their diazinon end-use products registrations to terminate all uses identified in List 1.

B. Requests for Voluntary Cancellation of End-Use Products

The end-use product registrations for which cancellation was requested are identified in the following Table 1.

Table 1.— End-Use Product Registration Cancellation Requests
Company | EPA Registration # | Product
Farnam Companies, Inc. | 270-282 | Diazinon 2EC
Prentiss Inc. | 655-457 655-462 655-519 | Prentox Diazinon 4E Insecticide Prentox Diazinon 4S Insecticide Prentox Liquid Household Spray #1
Universal Cooperatives, Inc. | 1386-573 1386-651 | Diazinon Emulsifiable Lawn and Garden Insecticide Security Brand 2% Diazinon Granules Lawn Insect Control
Virbac AH, Inc. | 2382-168 2382-171 2382-172 | Diazinon-Pyriproxyfen Collar for Dogs and Puppies #1 Diazinon-Pyriproxyfen Collar for Dogs and Puppies #3 Diazinon-Pyriproxyfen Collar for Dogs and Puppies #2
ABC Compounding, Inc. | 3862-71 | Drop Dead Insect Spray
Cerexagri, Inc. | 4581-335 | Knox Out 2 FM
Amvac Chemical Corp. | 5481-224 5481-241 | Diazinon 4E Alco Housing Authority Roach Concentrate
US Marketing Distributors | 6409-14 | Professional Do it Yourself Exterminator's Kit Formula 400
Voluntary Purchasing Group, Inc. | 7401-67 | Ferti-Lome Rose Spray Containing Diazinon & Daconil.
Earth Care/Division of United Industries Corp. | 8660-101 8660-115 8660-106 | Vertagreen 5% Diazinon Insecticide Vertagreen Diazion Pre-Weed Vertagreen Diazinon Pre-Weed Plus
The Andersons Lawn Fertilizer Division | 9198-189 | Proturf Insecticide One
Waterbury Companies, Inc. | 9444-89 | CB Aqueous Residual Insecticide
Athea Laboratories, Inc. | 10088-71 | Roach and Ant Killer
Verpas Products, Inc. | 13926-6 | Diaciclon F-5
Wagnol Inc. | 33912-1 | Wagnol 40 Pest Control Spray Concentrate Contains Diazinon
T-Tex Corp. | 39039-5 | Dryzon WP Livestock Premise & Sheep Insecticide
Chem-Tech Ltd. | 47000-63 | Pressurized Household Insect Spray Concentrate Contains Diazinon and DDVP
Marman USA , Inc. | 48273-25 | Marman Diazinon AG 60 EC
Control Solutions Inc | 53883-58 | Martin's Diazinon 4E Indoor- Outdoor Insecticide
Arkopharma, Inc. | 69607-1 | Double Duty Flea & Tick Collar For Dogs

EPA did not receive any substantive comments that would merit further review expressing a need of diazinon products for indoor use. Accordingly, the Agency is issuing an order in this notice canceling the registrations identified in Table 1, as requested by the EUP registrants.

C. Requests for Voluntary Amendments of End-Use Product Registrations to Terminate Certain Uses

Pursuant to section 6(f)(1)(A) of FIFRA, many EUP Registrants submitted requests to amend a number of their diazinon end-use product registrations to terminate the uses identified in List 1 of this notice or any other uses as specified for each product in the September 13, 2001, Diazinon 6(f) Notice and reiterated in Table 2 below. EPA did not receive any comments expressing a need for any of the canceled uses. The registrations for which amendments to terminate specific uses were requested are identified in the following Table 2:

Table 2.— End-Use Product Registration Amendment Requests
Company | EPA Registration # | Product Name: Use Deletions
Dragon Chemical Corp. | 16-119 16-157 16-166 | Dragon 5% Diazinon Granules: Celery. Diazinon 25% Diazinon Spray: Almonds Dragon Diazinon Water-Based Concentrate: Almonds
Southern Agricultural Insecticides, Inc. | 829-264 | SA-50 Brand 5% Diazinon Granules: Celery
Universal Cooperative, Inc. | 1386-599 1386-648 | Diazinon 4 EC (AG): Beans, Cucumbers, Parsley, Parsnips, Peas, Peppers, Potatoes (Irish), Squash (Summer and Winter), Sweet Potatoes, Swiss Chard, Turnips, Lawn Pest Control, Nuisance Pests in Outside Areas, Grassland Insects, and Indoor Ornamentals 5% Diazinon Insect Killer Granules: Celery
Knox Fertilizer Co. Inc. | 8378-32 | Shaw's 5% Diazinon Insect Granules: Celery

III. Cancellation Order

Pursuant to section 6(f) of FIFRA, EPA hereby approves the requested cancellations of diazinon product and use registrations identified in Tables 1 and 2 of this notice. Accordingly, the Agency orders that the diazinon end-use product registrations identified in Table 1 are hereby canceled. The Agency also orders that all of the uses identified in List 1 and all other uses (including specific outdoor non-agricultural uses) identified for deletion in Table 2 are hereby canceled from the end-use product registrations identified in Table 2. Any distribution, sale, or use of existing stocks of the products identified in Tables 1 and 2 in a manner inconsistent with the terms of this order or the Existing Stock Provisions in Unit IV of this notice will be considered a violation of section 12(a)(2)(K) of FIFRA and/or section 12(a)(1)(A) of FIFRA.

IV. Existing Stocks Provisions

For purposes of this Order, the term “existing stocks” is defined, pursuant to EPA's existing stocks policy (56 FR 29362, June 26, 1991), as those stocks of a registered pesticide product which are currently in the United States and which have been packaged, labeled, and released for shipment prior to the effective date of the amendment or cancellation. The existing stocks provisions of this Cancellation Order are as follows:

1. Distribution or Sale of Products Bearing Instructions for Use on Agricultural Crops. The distribution or sale of existing stocks by the registrant of any product listed in Table 1 or 2 that bears instructions for use on the agricultural crops identified in List 1 will not be lawful under FIFRA 1-year after the effective date of the cancellation order, except for the purposes of shipping such stocks for export consistent with section 17 of FIFRA or for proper disposal. Persons other than the registrant may continue to sell or distribute the existing stocks of any product listed in Table 2 that bears instructions for any of the agricultural uses identified in List 1 after the effective date of the cancellation order.

2. Distribution or Sale of Products Bearing Instructions for Use on Outdoor Non-Agricultural Sites. The distribution or sale of existing stocks by the registrant of any product listed in Table 1 or 2 that bears instructions for use on outdoor non-agricultural sites will not be lawful under FIFRA 1-year after the effective date of the cancellation order, except for the purposes of shipping such stocks for export consistent with section 17 of FIFRA or for proper disposal. Persons other than the registrant may continue to sell or distribute the existing stocks of any product listed in Table 1 or 2 that bears instructions for use on outdoor non-agricultural sites after the effective date of the cancellation order.

3. Distribution or Sale of Products Bearing Instructions for Use on Indoor Sites. The distribution or sale of existing stocks by the registrant of any product listed in Table 1 or 2 that bears instructions for use at or on any indoor sites (except mushroom houses), shall not be lawful under FIFRA as of the effective date of the cancellation order, except for the purposes of shipping such stocks for export consistent with section 17 of FIFRA or for proper disposal.

4. Retail and Other Distribution or Sale of Existing Stock of Products For Indoor Use. The distribution or sale of existing stocks by any person other than the registrants of products listed in Table 1 or 2 bearing instructions for any indoor uses except mushroom houses will not be lawful under FIFRA after December 31, 2002, except for the purposes of shipping such stocks for export consistent with section 17 of FIFRA or for proper disposal.

5. Use of existing stocks. EPA intends to permit the use of existing stocks of products listed in Table 1 or 2 until such stocks are exhausted, provided such use is in accordance with the existing labeling of that product.

List of Subjects

Environmental protection, Pesticides and pests.

Dated: November 22, 2002.
Lois Rossi,
Director, Special Review and Reregistration Division, Office of Pesticide Programs.

[FR Doc. 02-31013 Filed 12-6-02; 8:45am]

BILLING CODE 6560-50-S